DEPARTMENT OF COMMERCE

National Oceanic and Atmospheric Administration

Proposed Information Collection; Comment Request; Alaska License Limitation Program (LLP) for Groundfish, Crab, and Scallops

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 25, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Kurt Iverson, (907) 586-7228 or kurt.iverson@noaa.gov.

SUPPLEMENTARY INFORMATION:

I. Abstract

This request is for extension of a current information collection.

The License Limitation Program (LLP) restricts access to the commercial groundfish fisheries, commercial crab fisheries, and commercial scallop fisheries in the Exclusive Economic Zone off Alaska except for certain areas where alternative programs exist. The intended effect of the LLP is to limit the number of participants and reduce fishing capacity in fisheries off Alaska.

For a vessel designated on an LLP license, the LLP license authorizes the type of fishing gear that may be used by the vessel, the maximum size of the vessel, an area endorsement, and whether the vessel may catch and process fish at sea or if it is limited to delivering catch without at-sea processing. LLP licenses that allow vessels to catch and process at-sea are assigned a catcher/processor endorsement. LLP licenses specify the maximum length overall (MLOA) of the vessel to which that LLP license may be assigned. The LLP may also include a species endorsement for Pacific cod in the Bering Sea and Aleutian Islands management area (BSAI) and Gulf of Alaska (GOA).

An LLP license is required for vessels participating in directed fishing for LLP groundfish species in the BSAI or GOA, or fishing in any BSAI LLP crab fisheries. An LLP license is also required for any vessel deployed in scallop fisheries in Federal waters off Alaska (except for some diving operations).

II. Method of Collection

Respondents have a choice of either electronic or paper forms. Methods of submittal are mail and facsimile transmission of paper forms.

III. Data

OMB Control Number: 0648-0334.

Form Number(s): None.

Type of Review: Regular submission (extension of a current information collection).

Affected Public: Business or other for-profit organizations; individuals or households.

Estimated Number of Respondents: 79.

Estimated Time Per Response: Request to Extinguish Pacific Cod Sideboard Limits for Hook-and-Line Catcher/Processors in the Western or Central GOA, 30 minutes; Application for Transfer of Groundfish/Crab LLP License, 1 hour; Application for Transfer of Scallop LLP License, 1 hour; and Transfer appeals, 4 hours.

Estimated Total Annual Burden Hours: 130 hours.

Estimated Total Annual Cost to Public: $657 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 24, 2017.
Sarah Brabson,
NOAA PRA Clearance Officer.

[FR Doc. 2017-15812 Filed 7-26-17; 8:45 am]

BILLING CODE 3510-22-P